ADVISORY COUNCIL ON HISTORIC PRESERVATION

ACHP Quarterly Business Meeting

AGENCY: Advisory Council on Historic Preservation.

ACTION: Notice.

SUMMARY: Notice is hereby given that the Advisory Council on Historic Preservation (ACHP) will meet Thursday, May 10, 2012. The meeting will be held in the Caucus Room of the Russell Senate Office Building at Constitution and Delaware Avenues NE., Washington, DC at 8:30 a.m.

The ACHP was established by the National Historic Preservation Act of 1966 (16 U.S.C. 470 et seq.) to advise the President and Congress on national historic preservation policy and to comment upon federal, federally assisted, and federally licensed undertakings having an effect upon properties listed in or eligible for inclusion in the National Register of Historic Places. The ACHP's members are the Architect of the Capitol; the Secretaries of the Interior, Agriculture, Defense, Housing and Urban Development, Commerce, Education, Veterans Affairs, and Transportation; the Administrator of the General Services Administration; the Chairman of the National Trust for Historic Preservation; the President of the National Conference of State Historic Preservation Officers; a Governor; a Mayor; a Native American; and eight non-federal members appointed by the President.

Call to Order—8:30 a.m.

I. Chairman's Welcome

II. Chairman's Award

III. Chairman's Report

IV. ACHP Management Issues

A. Credentials Committee Report and Recommendations

B. Alumni Foundation Report

C. Recodification of the National Historic Preservation Act

V. Forum Discussion-Federal Budget Austerity and Historic Preservation-Part II

VI. Historic Preservation Policy and Programs

A. Building a More Inclusive Preservation Program

B. Legislative Agenda

C. Rightsizing Task Force Report

D. Sustainability Task Force Report

VIII. Section 106 Issues

A. Guidance on Coordinating and Substituting NEPA and Section 106 Compliance

B. Section 3 Report Submission and Follow up

C. Traditional Cultural Landscapes Forum Action Plan Implementation

D. Section 106 Training Initiatives-Webinars

E. Executive Order on Infrastructure Projects

F. Post Office Closures and Disposal

IX. New Business

X. Adjourn

Note: The meetings of the ACHP are open to the public. If you need special accommodations due to a disability, please contact the Advisory Council on Historic Preservation, 1100 Pennsylvania Avenue NW., Room 803, Washington, DC 202-606-8503, at least seven (7) days prior to the meeting. For further information: Additional information concerning the meeting is available from the Executive Director, Advisory Council on Historic Preservation, 1100 Pennsylvania Avenue NW., #803, Washington, DC 20004.

Dated: April 18, 2012.
John M. Fowler,
Executive Director.

[FR Doc. 2012-9783 Filed 4-23-12; 8:45 am]

BILLING CODE 4310-K6-P